DEPARTMENT OF AGRICULTURE

Animal and Plant Health Inspection Service

[Docket No. APHIS-2008-0139]

Notice of Request for Approval of an Information Collection; APHIS Ag-Discovery Program

AGENCY: Animal and Plant Health Inspection Service, USDA.

ACTION: New information collection; comment request.

SUMMARY: In accordance with the Paperwork Reduction Act of 1995, this notice announces the Animal and Plant Health Inspection Service's intention to request approval of an information collection associated with the Ag-Discovery Program.

DATES: We will consider all comments that we receive on or before May 11, 2009.

ADDRESSES: You may submit comments by either of the following methods:

• Federal eRulemaking Portal: Go to http://www.regulations.gov/fdmspublic/component/main?main=DocketDetail&d=APHIS-2008-0139 to submit or view comments and to view supporting and related materials available electronically.

• Postal Mail/Commercial Delivery: Please send two copies of your comment to Docket No. APHIS-2008-0139, Regulatory Analysis and Development, PPD, APHIS, Station 3A-03.8, 4700 River Road Unit 118, Riverdale, MD 20737-1238. Please state that your comment refers to Docket No. APHIS-2008-0139.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the APHIS Ag-Discovery Program, contact Mr. Ken Johnson, Special Programs Consultant, CREC, APHIS, 4700 River Road Unit 92, Riverdale, MD 20737; (301) 734-5353. For copies of more detailed information on the information collection, contact Mrs. Celeste Sickles, APHIS* Information Collection Coordinator, at (301) 851-2908.

SUPPLEMENTARY INFORMATION: Title: APHIS Ag-Discovery Program.

OMB Number: 0579-xxxx.

Type of Request: Approval of a new information collection.

Abstract: The Animal and Plant Health Inspection Service established “Ag-Discovery,” a nationwide outreach program, to help students learn about careers in agriculture. The 2-3 week summer boarding program targets students 12-17 years old who are interested in learning more about agricultural science. To date, the APHIS Ag-Discovery program is hosted on six university campuses and is designed to create awareness about agriculture, the mission of APHIS, and careers in APHIS programs. Students learn about agricultural science from university professors, plant and animal health professionals, and wildlife biologists and participate in a variety of activities, such as hands-on labs, workshops, and field trips.

The Ag-Discovery outreach program requires the use of information collection activities, including a student application, essays, and letters of reference.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of Burden: The public reporting burden for this collection of information is estimated to average 6 hours per response.

Respondents: Full-time students (12-17 years of age).

Estimated Annual Number of Respondents: 210.

Estimated Annual Number of Responses per Respondent: 3.

Estimated Annual Number of Responses: 630.

Estimated Total Annual Burden on Respondents: 3,780 hours. (Due to averaging, the total annual burden hours may not equal the product of the annual number of responses multiplied by the reporting burden per response.)

All responses to this notice will be summarized and included in the request for OMB approval. All comments will also become a matter of public record.

Done in Washington, DC, this 4th day of March 2009.
Kevin Shea,
Acting Administrator, Animal and Plant Health Inspection Service.

[FR Doc. E9-5033 Filed 3-9-09; 8:45 am]

BILLING CODE 3410-34-P